DEPARTMENT OF THE INTERIOR

[FWS-R4-FHC-2014-N006; FVHC98130406900-XXX-FF04G01000]

DEEPWATER HORIZON Oil Spill; Draft Programmatic and Phase III Early Restoration Plan and Draft Early Restoration Programmatic Environmental Impact Statement

AGENCY: Interior.

ACTION: Notice of availability; extension of public comment period.

SUMMARY: We are extending the public comment period on our Draft Programmatic and Phase III Early Restoration Plan and Draft Early Restoration Programmatic Environmental Impact Statement (Draft Phase III ERP/PEIS) regarding the DEEPWATER HORIZON Oil Spill. We opened the comment period via a December 6, 2013, notice of availability.

DATES: Comments must be submitted electronically or postmarked by 11:59 p.m. Mountain Time on February 19, 2014.

ADDRESSES: Document Availability: You may download the Draft Phase III ERP/PEIS at http://www.gulfspillrestoration.noaa.gov or at http://www.doi.gov/deepwaterhorizon. Alternatively, you may request a CD of the Draft Phase III ERP/PEIS (see FOR FURTHER INFORMATION CONTACT). You may also view the document at any of the public facilities listed at http://www.gulfspillrestoration.noaa.gov.

Submitting Comments: You may submit comments on the Draft Phase III ERP/PEIS by one of following methods:

(1) Electronically: http://www.gulfspillrestoration.noaa.gov.

(2) By hard copy: Submit by U.S. mail to: U.S. Fish and Wildlife Service, P.O. Box 49567, Atlanta, GA 30345.

We request that you send comments by only one of the methods described above.

FOR FURTHER INFORMATION CONTACT: Nanciann Regalado, at nanciann_regalado@fws.govmailto:fw4coastalDERPcomments@fws.gov.

SUPPLEMENTARY INFORMATION: In accordance with the Oil Pollution Act of 1990 (OPA; 33 U.S.C. 2701 et seq.) and the National Environmental Policy Act (NEPA; 42 U.S.C. 4321 et seq.), the Federal and State natural resource trustee agencies (Trustees) have prepared a Draft Programmatic and Phase III Early Restoration Plan and Draft Early Restoration Programmatic Environmental Impact Statement (Draft Phase III ERP/PEIS).

The Draft Phase III ERP/PEIS considers programmatic alternatives to restore natural resources, ecological services, and recreational use services injured or lost as a result of the DEEPWATER HORIZON oil spill. The restoration alternatives are comprised of early restoration project types; the Trustees additionally propose 44 specific early restoration projects that are consistent with the proposed early restoration program alternatives. The Trustees have developed restoration alternatives and projects to utilize funds for early restoration being provided under the Framework for Early Restoration Addressing Injuries Resulting from the DEEPWATER HORIZON Oil Spill (Framework Agreement) discussed below.

Criteria and evaluation standards under the OPA natural resource damage assessment regulations and the Framework Agreement guided the Trustees' consideration of programmatic restoration alternatives. The Draft Phase III ERP/PEIS evaluates these restoration alternatives and projects under criteria set forth in the OPA natural resource damage assessment regulations and the Framework Agreement. The Draft Phase III ERP/PEIS also evaluates the environmental consequences of the restoration alternatives and projects under NEPA.

Background

For additional background information, see our original Federal Register notice, in which we opened the comment period on the Draft Phase III ERP/PEIS (December 6, 2013, 78 FR 73555).

Public Comments

If you submit a comment via, http://www.gulfspillrestoration.noaa.gov, your entire comment—including any personal identifying information—may be made publicly available at any time. If you submit a hardcopy comment that includes personal identifying information, you may request at the top of your document that we withhold this information from public review. However, we cannot guarantee that we will be able to do so.

Authority

The authority of this action is the National Environmental Policy Act (42 U.S.C. 4321 et seq.) and the Oil Pollution Act of 1990 (33 U.S.C. 2701 et seq.) and the implementing Natural Resource Damage Assessment regulations found at 15 CFR part 990.

Cynthia K. Dohner,
Department of the Interior Authorized Official.

[FR Doc. 2014-00832 Filed 1-16-14; 8:45 am]

BILLING CODE 4310-55-P